DEPARTMENT OF HEALTH AND HUMAN SERVICES

Administration for Children and Families

Privacy Act of 1974; System of Records

AGENCY: Administration for Children and Families (ACF), Department of Health and Human Services (HHS).

ACTION: Notice of a modified system of records.

SUMMARY: In accordance with the requirements of the Privacy Act of 1974, as amended, the Department of Health and Human Services (HHS) is modifying an existing system of records maintained by the Administration for Children and Families (ACF), Office of Child Support Services (OCSS): System No. 09-80-0381, “OCSS National Directory of New Hires, HHS/ACF/OCSS.”

DATES: This Notice is applicable April 11, 2024, subject to a 30-day period in which to comment on the new and revised routine uses, described below. Please submit any comments by May 13, 2024.

ADDRESSES: The public should address written comments by mail or email to Anita Alford, Senior Official for Privacy, Administration for Children and Families, 330 C St. SW, Washington, DC 20201, or by email to anita.alford@acf.hhs.gov.

FOR FURTHER INFORMATION CONTACT: General questions about these system of records should be submitted by mail or email to Venkata Kondapolu, Director, Division of Federal Systems, Office of Child Support Services, at 330 C St. SW—5th Floor, Washington, DC 20201, or venkata.kondapolu@acf.hhs.gov, or by phone at 202-260-4712.

SUPPLEMENTARY INFORMATION:

I. Explanation of Changes to System of Records 09-80-0381

In accordance with 5 U.S.C. 552a(e)(4) and (11), HHS is modifying an existing system of records maintained by ACF, OCSS: System No. 09-80-0381, “OCSS National Directory of New Hires, HHS/ACF/OCSS.”

This system of records covers records about newly hired employees, including employer, wage, unemployment compensation, and income withholding information, maintained for child support program purposes (including locating parents, the establishment of parentage, and the establishment and enforcement of child support and medical support obligations). The System of Records Notice (SORN) has been modified as follows:

• The System Name has been changed to “OCSS National Directory of New Hires” to reflect the name change of the “Office of Support Enforcement” to the “Office of Child Support Services.”

• The System Manager section has been revised to change the title of the official serving as the System Manager from “Acting Director” to “Director” and to change the office name to “Office of Child Support Services.”

• The Purpose(s) section has been revised to include an additional purpose for which OCSS may use NDNH data, i.e., to create deidentified or aggregate datasets for reporting purposes or for HHS or another agency to use for analysis, and to describe one such example. In addition, a list of “other” statutorily authorized purposes has been clarified to show that those are purposes for which entities other than OCSS are authorized to use NDNH data, and that OCSS coordinates those entities' use of NDNH data for those purposes.

• The Categories of Individuals section has been revised to:

○ Remove the category of individuals whose information is contained within input records furnished for purposes of establishing or verifying eligibility of applicants for, or beneficiaries of, federal or state benefit programs. This category is redundant because these individuals would be covered by the other categories.

○ Add “individuals about whom information is captured in the NDNH other than as described in the preceding categories” to clarify that the last category is not a subset of the other categories.

• The Categories of Records section has been revised as follows:

○ In category (1), “furnished by a State Directory of New Hires” has been omitted, and the citation 42 U.S.C. 653a(g)(2)(A) was corrected to read 42 U.S.C. 653a(a)(2)(C).

○ In category (2), “furnished by a federal department, agency, or instrumentality” has been omitted, and the Department of Defense status code has been explained as indicating whether an individual is an active duty, civilian, retired/pension, or reserve employee.

○ In category (3), “furnished by a State Directory of New Hires” has been omitted, and unemployment compensation records are now described as consisting of claimant name, Social Security Number (SSN), address, benefit amount, and reporting period.

○ Existing category (4) has been broken into two categories, now numbered as (4) and (5), and revised as follows:

In category (4), “furnished by a federal department, agency, or instrumentality” has been omitted; “wages paid to individuals” has been changed to “the amount of quarterly wages paid to federal employees”; and quarterly wages are now described as including quarterly wage processed date, employee name, federal employer identification number (FEIN), employer's state, Department of Defense code, employer name, employer address, employee wage amount, quarterly wage reporting period, transmitter agency code, transmitter state code, and transmitter state or agency name.

In category (5), “records obtained pursuant to an agreement” has been omitted; “wage and unemployment compensation” has been changed to “wage and unemployment compensation amounts paid to individuals, as maintained by or for the Department of Labor”; and unemployment compensation records are now described as including unemployment insurance processed date, claimant name, claimant address, claimant benefit amount, unemployment insurance reporting period, transmitter state code, and transmitter state or agency name.

○ In category (6) (formerly category (5)), matching program input records are now described as consisting of an individual's name, date of birth, and SSN, and an explanation has been added stating that “[s]uch input records are included in the NDNH to, e.g., document that a SSN has been verified or that a SSN number transposition or SSN/name match error has been corrected, or to maintain a record of partial information which has not been verified.”

○ In category (7) (formerly category (6)), “termination date” has been changed to “employment termination date”; “contact information” has been changed to “phone number, home address, email address”; examples of employers' third party service providers have been included (“e.g., vendors hired by an employer to process payroll or medical insurance information”); and “order information” has been changed to “child support income withholding order information.”

• The Record Source Categories section has been revised to change “departments, agencies, or instrumentalities of the United States or any state” to “federal, state, local, territorial, or tribal government agencies.”

• The Routine Uses section has been updated as follows:

○ A note at the start of the section stating that HHS may make a disclosure under a routine use subject to redisclosure restrictions has been revised to state that any such restrictions will be imposed pursuant to a Data Use Agreement entered into between HHS and the disclosure recipient.

○ Routine use 1 has been reworded at the start to change “information” to “records” and to provide examples explaining the term “individual.”

○ Routine use 3 has been revised to include a definition of “applicant” and to update a statutory citation to read “22 U.S.C. 9001” instead of “42 U.S.C. 11601.”

○ Routine use 4 has been revised to correct a statutory citation to read “42” U.S.C. 659a instead of “52” U.S.C. 659a.

○ Routine use 5 has been revised to include “upon request” to show that the disclosures are initiated by the disclosure recipient.

○ Routine use 6 has been revised to remove “of individuals about whom information is maintained.”

○ Routine use 7 has been revised to include “upon request” to show that the disclosures are initiated by the disclosure recipient.

○ Routine use 8 has been revised to change “the Secretary” to “the Secretary of Health and Human Services.”

○ Routine use 9 has been revised to include “upon request” to show that the disclosures are initiated by the disclosure recipient.

○ Former routine use 10, which authorized disclosures of data “without personal identifiers” for certain research purposes, has been deleted as unnecessary, because data lacking personal identifiers would not constitute Privacy Act records. The routine use is also unnecessary to the extent it duplicates the disclosure authorization in 5 U.S.C. 552a(b)(5), which permits data that is “not individually identifiable” to be disclosed based on advance adequate written assurance from the recipient that the data will be used solely as a statistical research or reporting record.

○ Routine use 10 is now a new routine use added to allow HHS to disclose to the Secretary of Agriculture information about individuals participating in a rural housing program for the purpose of verifying the employment and income of the individual, pursuant to 7 U.S.C. 1981(f).

○ Routine uses 11, 12, and 16 have been revised to remove unnecessary wording at the end of each routine use, mentioning that the recipients also use data, with personal identifiers removed, to conduct analyses. That is now stated in the Purpose(s) section, because the recipients receive deidentified datasets from OCSS to use for that purpose (they do not create deidentified datasets from identifiable data they receive from OCSS). In addition:

Routine use 11 has been revised to include “upon request” to show that the disclosures are initiated by the disclosure recipient.

Routine use 12 has been revised to include “upon request” to show that the disclosures are initiated by the disclosure recipient.

Routine use 16 has been revised to reflect that the disclosures are for “veteran employment tracking” instead of for “verifying the employment and income of the individual” because the applicable disclosure provision in Title 42, United States Code, is now 42 U.S.C. 653a(h)(4) (added by Pub. L. 116-315, Jan. 5, 2021), which permits the Veterans Administration to access “information reported by employers . . . for purposes of tracking employment of veterans.” (The former disclosure provision, 42 U.S.C. 653(j)(11), expired Mar. 29, 2014; see 42 U.S.C. 653(j)(11)(G)(ii).). This routine use has also been revised to include “upon request” to show that the disclosures are initiated by the disclosure recipient.

○ Routine use 13 has been revised to include “upon request” to show that the disclosures are initiated by the disclosure recipient.

○ Routine use 14 has been revised to include “upon request” to show that the disclosures are initiated by the disclosure recipient. In addition, the words “which has been referred to the Secretary of the Treasury for collection” have been added.

○ Routine use 15 has been revised to include “upon request” to show that the disclosures are initiated by the disclosure recipient.

○ Routine use 17 has been revised to change “information” to “records,” and to include “upon request” to show that the disclosures are initiated by the disclosure recipient.

○ Routine use 19 has been revised to change “individual” to “subject individual.”

○ A note at the end of the Routine Uses section has been revised. It explains that most disclosures the Privacy Act authorizes to be made without the data subject's consent are not, in fact, permissible for NDNH data, based on the restrictions contained in NDNH's authorizing statute at 42 U.S.C. 653(l)(1). The revised note also explains that, notwithstanding the restrictions in NDNH's authorizing statute, HHS may lawfully disclose NDNH data, upon request, to the following federal agencies without the data subject's consent, as such disclosures are authorized in 5 U.S.C. 552a(b)(10) and (b)(1), respectively, and are required by the Comptroller General and Inspector General statutes cited below: (a) the Comptroller General under 31 U.S.C. 721; and (b) the HHS Inspector General under 5 U.S.C. Appendix 3, section 6(a)(1).

• The Retention and Disposal section has been revised to explain that the “order identifier” is an “alternate state case identifier.”

• The Record Access Procedures section has been revised to change “the request should include” to “the request must include.”

Venkata Kondapolu,
Director, Division of Federal Systems.

SYSTEM NAME AND NUMBER:

OCSS National Directory of New Hires, HHS/ACF/OCSS, 09-80-0381.

SECURITY CLASSIFICATION:

Unclassified.

SYSTEM LOCATION:

Office of Child Support Services, Administration for Children and Families, 330 C St. SW—5th Floor, Washington, DC 20201.

SYSTEM MANAGER(S):

Director, Division of Federal Systems, Office of Child Support Services, Administration for Children and Families, Department of Health and Human Services, 330 C St. SW, 5th Floor, Washington, DC 20201, or venkata.kondapolu@acf.hhs.gov.

AUTHORITY FOR MAINTENANCE OF THE SYSTEM:

42 U.S.C. 652(a)(9), 652(n), 653(a)(1) and (2), 653(c)(5), 653(i), and 659a(c)(2).

PURPOSE(S) OF THE SYSTEM:

The Office of Child Support Services (OCSS) uses the NDNH primarily to assist states and Indian tribes or tribal organizations to locate parents; establish paternity and child support orders, including the establishment of medical support; and enforce child support and medical support orders. States and other entities are specifically authorized by statute to use NDNH data in their programs for specific purposes, and OCSS coordinates their access to the data for those purposes. These purposes include: (a) to support the following programs, as specified in 42 U.S.C. 653 and 663: the Temporary Assistance for Needy Families (TANF) program, child and family services programs, and foster care and adoption assistance programs; (b) to establish or verify the eligibility of applicants for, or beneficiaries of, federal and state benefit programs, including through the use of matching programs; (c) to recoup payments or delinquent debts under benefit programs and non-tax debts owed to the Federal Government; (d) to administer the tax code; and (e) to conduct research likely to contribute to achieving the purposes of the TANF program or the federal/state/tribal child support program, as authorized under 42 U.S.C. 653(j)(5). OCSS may also use NDNH data to create deidentified or aggregate datasets for its reporting purposes, or for use by HHS or another agency for analysis. For example, OCSS provides deidentified NDNH data about rural housing program participants to the Secretary of Housing and Urban Development to support analysis regarding employment and income reporting.

CATEGORIES OF INDIVIDUALS COVERED BY THE SYSTEM:

(1) Individuals who are newly hired “employees” within the meaning of chapter 24 of the Internal Revenue Code of 1986, 26 U.S.C. 3401, whose employers have furnished the information specified under 42 U.S.C. 653a(b)(1)(A) to a State Directory of New Hires which, in turn, has furnished such information to the NDNH pursuant to 42 U.S.C. 653a(g)(2)(A).

(2) Individuals who are Federal Government employees whose employers have furnished specified information to the NDNH pursuant to 42 U.S.C. 653(n) and 653a(b)(1)(c). This category does not include individuals who are employees of a department, agency, or instrumentality performing intelligence or counterintelligence functions, if the head of such department, agency, or instrumentality has determined that filing such a report could endanger the safety of the employee or compromise an ongoing investigation or intelligence mission.

(3) Individuals to whom unemployment compensation or wages have been paid, and about whom the State Directory of New Hires has furnished such information to the NDNH pursuant to 42 U.S.C. 653(e)(3) and 653a(g)(2)(B). Such individuals may include independent contractors, in accordance with state law.

(4) Individuals about whom information is captured in the NDNH other than as described in the preceding categories, including individuals involved in child support cases whose information is collected from and disseminated to employers (and other payers of income) and state or Tribal IV-D child support enforcement agencies, courts, and other authorized entities for enforcement of child support orders by withholding of income.

CATEGORIES OF RECORDS IN THE SYSTEM:

(1) Records pertaining to newly hired employees as defined by 42 U.S.C. 653a(a)(2)(C). Records in the system are the name, address, Social Security Number (SSN) or Taxpayer Identification Number (TIN), and date of hire of the employee; the name, address, and federal identification number of the employer of such employee; and, at the option of the state, the date of birth or state of hire of the employee.

(2) Records pertaining to newly hired federal employees pursuant to 42 U.S.C. 653a(b)(1)(C), including the name, address, SSN (or TIN), and date of hire of the employee; the name, address, and employer identification number (EIN) of the employer, and, where available, a Department of Defense status code, indicating whether an individual is an active duty, civilian, retired/pension, or reserve employee.

(3) Records pertaining to wages and unemployment compensation paid to individuals pursuant to 42 U.S.C. 653a(g)(2)(B). Unemployment compensation records include claimant name, SSN, address, benefit amount, and reporting period. Such records may also pertain to independent contractors, in accordance with state law.

(4) Records pertaining to the quarterly wages paid to federal employees pursuant to 42 U.S.C. 653(n). Quarterly wage records include the date quarterly wages were processed, employee name, federal employer identification number (FEIN), employer's state, Department of Defense code, employer name, employer address, employee wage amount, quarterly wage reporting period, transmitter agency code, transmitter state code, and transmitter state or agency name.

(5) Records pertaining to quarterly wage and unemployment compensation amounts paid to individuals, as maintained by or for the Department of Labor pursuant to 42 U.S.C. 653(e)(3). Unemployment compensation records include unemployment insurance processed date, claimant name, claimant address, claimant benefit amount, unemployment insurance reporting period, transmitter state code, and transmitter state or agency name.

(6) Input records, consisting of an individual's name, date of birth, and SSN, furnished by a state or federal agency or other entity for authorized matching with the NDNH. Such input records are included in the NDNH to, e.g., document that an SSN has been verified or that an SSN number transposition or SSN/name match error has been corrected, or to maintain a record of partial information that has not been verified.

(7) Records collected from employers and other income sources pertaining to income withholding and medical support such as: employment termination date, final payment date and amount, phone number, home address, email address, names of children, health care coverage provider information (such as provider and contact name, FEIN, address, phone and fax numbers), information about any third-party service providers (e.g., vendors hired by an employer to process payroll or medical insurance information), information about any professional employer organizations (if the employer outsourced employee management functions), pension plan provider information, lump sum income information, child support income withholding order information, past due child support information, amounts to withhold, and instructions for withholding.

RECORD SOURCE CATEGORIES:

NDNH records are obtained from federal, state, local, territorial, or tribal government agencies; from entities authorized to match to receive NDNH information; and from health plan administrators, employers, and other income sources.

ROUTINE USES OF RECORDS MAINTAINED IN THE SYSTEM, INCLUDING CATEGORIES OF USERS AND THE PURPOSES OF SUCH USES:

These routine uses specify circumstances under which HHS may disclose records from this system of records without the consent of the data subject. Each proposed disclosure under any of these routine uses will be evaluated to ensure that the disclosure is legally permissible. When HHS makes a disclosure under a routine use and is required by law to, or chooses to, prohibit redisclosures or permit only certain redisclosures, HHS will make the disclosure pursuant to a Data Use Agreement that imposes the pertinent use, reuse, and re-disclosure restrictions on the recipient. Any information defined as “return” or “return information” under 26 U.S.C. 6103 (Internal Revenue Code) will not be disclosed under a routine use unless authorized by a statute, the Internal Revenue Service (IRS), or IRS regulations.

(1) Disclosure for Child Support Purposes

Pursuant to 42 U.S.C. 653(a)(2), 653(b)(1)(A), and 653(c), records of the location of an individual (e.g., a child support obligor, a child support obligee, or an individual who has, or may have, parental rights to a child), or records that would facilitate the discovery of the location of an individual or that would identify an individual for the purpose of establishing parentage or establishing, setting the amount of, modifying, or enforcing child support obligations may be disclosed to “authorized persons.” Other information that may be disclosed in accordance with an applicable law and this routine use would include information about an individual's wages (or other income) from, and other benefits derived from, employment or other income and benefit sources, and information on the type, status, location, and amount of any assets of, or debts owed by or to, the individual. An “authorized person” is defined under 42 U.S.C. 653(c) as follows: (1) any agent or attorney of any state or Indian Tribe or Tribal organization (as defined in 25 U.S.C. 5304(e) and (l)), having in effect a plan approved under title IV-D of the Social Security Act who has the duty or authority under such plans to seek, or to recover any amounts owed as child and spousal support (including, when authorized under the state plan, any official of a political subdivision); (2) the court that has authority to issue an order, or to serve as the initiating court in an action to seek an order against a noncustodial parent for the support and maintenance of a child, or any agent of such court; (3) the resident parent, legal guardian, attorney, or agent of a child (other than a child receiving assistance under a state program funded under part A of title IV of the Social Security Act [42 U.S.C. 601 et seq.]) (as determined by regulations prescribed by the Secretary; currently, such regulations are contained in 45 CFR parts 302 and 303) without regard to the existence of a court order against a noncustodial parent who has a duty to support and maintain any such child; (4) a state agency that is administering a program operated under a state plan under subpart 1 of part B of title IV of the Social Security Act (42 U.S.C. 620 et seq.), or a state plan approved under subpart 2 of part B of title IV of the Social Security Act (42 U.S.C. 629 et seq.) or under part E of title IV of the Social Security Act (42 U.S.C. 670 et seq.); and (5) an entity designated as a Central Authority for child support enforcement in a foreign reciprocating country or a foreign treaty country for purposes specified in section 459A(c)(2) of the Social Security Act (42 U.S.C. 659a(c)(2)).

(2) Disclosure for Purposes Related to the Unlawful Taking or Restraint of a Child or Child Custody or Visitation.

Pursuant to 42 U.S.C. 653(b)(1), upon request of an “authorized person,” as defined in 42 U.S.C. 663(d)(2), information as to the most recent address and place of employment of a parent or child may be disclosed for the purpose of enforcing any state or federal law with respect to the unlawful taking or restraint of a child or making or enforcing a child custody or visitation determination.

(3) Disclosure to Department of State Under International Child Abduction Remedies Act.

Pursuant to 42 U.S.C. 653(b)(1) and 663(e), the most recent address and place of employment of a parent or child may be disclosed upon request to the Department of State, in its capacity as the Central Authority designated in accordance with section 7 of the International Child Abduction Remedies Act, 22 U.S.C. 9001 et seq., for the purpose of locating the parent or child on behalf of an applicant. An applicant includes “any person who, pursuant to the [Hague] Convention, files an application with the United States Central Authority or a Central Authority of any other party to the Convention for the return of a child alleged to have been wrongfully removed or retained or for arrangements for organizing or securing the effective exercise of rights of access pursuant to the Convention” (22 U.S.C. 9002(1)).

(4) Disclosure to a Foreign Reciprocating Country and Foreign Treaty Country for Child Support Purposes.

Pursuant to 42 U.S.C. 652(n), 653(a)(2), 653(c)(5), and 659a(c)(2), information on the state of residence of an individual sought for support enforcement purposes in cases involving residents of the United States and residents of foreign treaty countries or foreign countries that are the subject of a declaration under 42 U.S.C. 659a may be disclosed to the foreign country.

(5) Disclosure to the Treasury for Tax Administration Purposes.

Pursuant to 42 U.S.C. 653(i)(3), information may be disclosed to the Secretary of the Treasury, upon request, for purposes of administering 26 U.S.C. 32 (earned income tax credit), administering 26 U.S.C. 3507 (advance payment of earned income tax credit), and verifying a claim with respect to employment in a tax return.

(6) Disclosure to the Social Security Administration for Verification.

Pursuant to 42 U.S.C. 653(j)(1), HHS may disclose names, SSNs, and birth dates to the Social Security Administration to the extent necessary for verification by the Social Security Administration.

(7) Disclosure for Locating an Individual for Paternity Establishment or in Connection with a Support Order.

Pursuant to 42 U.S.C. 653(j)(2), the results of a comparison between records in this system and the Federal Case Registry of Child Support Orders may be disclosed, upon request, to the state or tribal IV-D child support enforcement agency responsible for the case for the purpose of locating an individual in a paternity establishment case or a case involving the establishment, modification, or enforcement of a support order.

(8) Disclosure to State Agencies Operating Specified Programs.

Pursuant to 42 U.S.C. 653(j)(3), information may be disclosed to a state to the extent and with the frequency that the Secretary of Health and Human Services determines to be effective in assisting the state to carry out its responsibilities under child support programs operated under 42 U.S.C. 651 through 669b (Title IV-D of the Social Security Act, Child Support and Establishment of Paternity), child and family services programs operated under 42 U.S.C. 621 through 629m (Title IV-B of the Social Security Act), Foster Care and Adoption Assistance programs operated under 42 U.S.C. 670 through 679c (Title IV-E of the Social Security Act), and assistance programs funded under 42 U.S.C. 601 through 619 (Title IV-A of the Social Security Act, Temporary Assistance for Needy Families).

(9) Disclosure to the Commissioner of Social Security.

Pursuant to 42 U.S.C. 653(j)(4), information may be disclosed to the Commissioner of Social Security, upon request, for the purpose of verifying eligibility for the Social Security Administration's programs and the administration of such programs, and for the administration of the Ticket to Work program.

(10) Disclosure to the Secretary of Agriculture for Verification Purposes.

Pursuant to 7 U.S.C. 1981(f), information may be disclosed, upon request, to the Secretary of Agriculture for the purpose of verifying the employment and income of individuals participating in a rural housing program (United States Housing Act of 1949 (42 U.S.C. 1472, 1474, 1490a, and 1490r)).

(11) Disclosure to Secretary of Education for Collection of Defaulted Student Loans.

Pursuant to 42 U.S.C. 653(j)(6), the results of a comparison of information in this system with information in the custody of the Secretary of Education may be disclosed, upon request, to the Secretary of Education for the purpose of collection of debts owed on defaulted student loans, or refunds on overpayments of grants, made under title IV of the Higher Education Act of 1965 (20 U.S.C. 1070 et seq. and 42 U.S.C. 2751 et seq.).

(12) Disclosure to Secretary of Housing and Urban Development for Verification Purposes.

Pursuant to 42 U.S.C. 653(j)(7), information regarding an individual participating in a housing assistance program (United States Housing Act of 1937 (42 U.S.C. 1437 et seq.); 12 U.S.C. 1701s, 1701q, 1715l(d)(3), 1715l(d)(5), 1715z-1; or 42 U.S.C. 8013) may be disclosed, upon request, to the Secretary of Housing and Urban Development for the purpose of verifying the employment and income of the individual.

(13) Disclosure to State Unemployment Compensation Agency for Program Purposes.

Pursuant to 42 U.S.C. 653(j)(8), the employment, address, and income records of an individual whose name and SSN are furnished to HHS by a state agency administering an unemployment compensation program under federal or state law may be disclosed, upon request, to the state agency for the purposes of administering the unemployment compensation program.

(14) Disclosure to Secretary of the Treasury for Debt Collection Purposes.

Pursuant to 42 U.S.C. 653(j)(9), information pertaining to a person who owes the United States delinquent non-tax debt and whose debt has been referred to the Secretary of the Treasury in accordance with 31 U.S.C. 3711(g) may be disclosed, upon request, to the Secretary of the Treasury for purposes of collecting the debt.

(15) Disclosure to State Agency for Supplemental Nutrition Assistance Program Purposes.

Pursuant to 42 U.S.C. 653(j)(10), an individual's employment, address, and income records may be disclosed, upon request, to a state agency responsible for administering a supplemental nutrition assistance program under the Food and Nutrition Act of 2008 (7 U.S.C. 2011 et seq.) for the purposes of administering the program.

(16) Disclosure to the Secretary of Veterans Affairs for Veteran Employment Tracking Purposes.

Pursuant to 42 U.S.C. 653a(h)(4), information may be disclosed, upon request, to the Secretary of Veterans Affairs for the purpose of tracking the employment of the individual.

(17) Disclosure for Law Enforcement Purpose.

Records may be disclosed, upon request, to the appropriate federal, state, local, tribal, or foreign agency responsible for identifying, investigating, and prosecuting noncustodial parents who knowingly fail to pay their child support obligations and meet the criteria for federal prosecution under 18 U.S.C. 228. The records must be relevant to the violation of criminal nonsupport, as stated in the Deadbeat Parents Punishment Act, 18 U.S.C. 228.

(18) Disclosure to Department of Justice or in Proceedings.

Records may be disclosed to the Department of Justice (DOJ) or to a court or other adjudicative body in litigation or other proceedings when HHS or any of its components, or any employee of HHS in his or her official capacity, or any employee of HHS in his or her individual capacity where the DOJ or HHS has agreed to represent the employee, or the United States, is a party to the proceedings or has an interest in the proceedings and, by careful review, HHS determines that the records are both relevant and necessary to the proceedings.

(19) Disclosure to Congressional Office.

Records may be disclosed to a congressional office in response to a written inquiry from the congressional office made at the written request of the subject individual.

(20) Disclosure to Contractor to Perform Duties.

Records may be disclosed to a contractor performing or working on a contract for HHS who has a need for the records in the performance of its duties or activities in accordance with law and with the contract.

(21) Disclosure in the Event of a Security Breach.

(a) Records may be disclosed to appropriate agencies, entities, and persons when (1) HHS suspects or has confirmed that there has been a breach of the system of records; (2) HHS has determined that as a result of the suspected or confirmed breach there is a risk of harm to individuals, HHS (including its information systems, programs, and operations), the Federal Government, or national security; and (3) the disclosure made to such agencies, entities, and persons is reasonably necessary to assist in connection with HHS's efforts to respond to the suspected or confirmed breach or to prevent, minimize, or remedy such harm.

(b) Records may be disclosed to another federal agency or federal entity when HHS determines that records from this system of records are reasonably necessary to assist in (1) responding to a suspected or confirmed breach; or (2) preventing, minimizing, or remedying the risk of harm to individuals, the recipient agency or entity (including its information systems, programs, and operations), the Federal Government, or national security, resulting from a suspected or confirmed breach.

In addition to the above routine use disclosures published pursuant to the Privacy Act at 5 U.S.C. 552a(b)(3), the Privacy Act permits an agency to make other disclosures described at 5 U.S.C. 552a(b) without the data subject's consent and without publishing a routine use. Most of those standardized disclosures are not, in fact, permissible for NDNH data due to restrictions in NDNH's authorizing statute at 42 U.S.C. 653(l)(1). Notwithstanding the restrictions in the NDNH statute, HHS may lawfully disclose NDNH data upon request to the following federal agencies without the data subject's consent, as authorized in 5 U.S.C. 552a(b)(10) and (b)(1), respectively, and required by the Comptroller General and Inspector General statutes cited below:

(a) the Comptroller General under 31 U.S.C. 721; and

(b) the HHS Inspector General under 5 U.S.C. Appendix 3, section 6(a)(1).

POLICIES AND PRACTICES FOR STORAGE OF RECORDS:

Records in the NDNH are stored electronically at the Social Security Administration's National Support Center and the OCSS Data Center. Historical logs and system backups are stored off-site at an alternate location.

POLICIES AND PRACTICES FOR RETRIEVAL OF RECORDS:

Records maintained in the NDNH are retrieved by the SSN (or TIN) of the individual to whom the record pertains. Records collected and disseminated from employers and other income sources are retrieved by state Federal Information Processing Standard (FIPS) codes and employer identification numbers, and records collected and disseminated from state IV-D child support enforcement agencies are retrieved by state FIPS codes.

POLICIES AND PRACTICES FOR RETENTION AND DISPOSAL OF RECORDS:

Records maintained in the NDNH are retained for 24 months after the date of entry and then are deleted from the database pursuant to 42 U.S.C. 653(i)(2)(A) and the National Archives and Records Administration (NARA) approved disposition schedule, N1-292-10-2. In accordance with 42 U.S.C. 653(i)(2)(B), OCSS will not have access, for child support enforcement purposes, to quarterly wage and unemployment insurance records in the NDNH if 12 months have elapsed since the information was provided by a State Directory of New Hires pursuant to 42 U.S.C. 653A(g)(2)(B) and there has not been a match resulting from the use of such records in any information comparison authorized under 42 U.S.C. 653(i). Input records for authorized matching to obtain NDNH information and records pertaining to income withholding collected and disseminated by OCSS are retained for 60 days. Audit logs, including information such as employer identification numbers, FIPS code numbers, document tracking numbers, case identification numbers and order identifier (alternate state case identifier), are retained up to 5 years.

ADMINISTRATIVE, TECHNICAL, AND PHYSICAL SAFEGUARDS:

The system leverages cloud service providers that maintain an authority to operate in accordance with applicable laws, rules, and policies, including Federal Risk and Authorization Management Program (FedRAMP) requirements. Specific administrative, technical, and physical controls are in place to ensure that the records collected and maintained in the NDNH are secure from unauthorized access. Access to the records is restricted to authorized personnel who are advised of the confidentiality of the records and the civil and criminal penalties for misuse and who sign a nondisclosure oath to that effect. Personnel are provided privacy and security training before being granted access to the records and annually thereafter.

Logical access controls are in place to limit access to the records to authorized personnel, to limit their access based on their roles, and to prevent browsing. The records are processed and stored in a secure environment. All records are stored in an area that is always physically safe from unauthorized access. Safeguards conform to the HHS Information Security and Privacy Program, which may be found at https://www.hhs.gov/ocio/securityprivacy/index.html.

RECORD ACCESS PROCEDURES:

To request access to a record about you in this system of records, submit a written access request to the System Manager. The request must include your name, telephone number or email address, current address, signature, and sufficient particulars (such as date of birth or SSN) to enable the System Manager to distinguish between records on subject individuals with the same name. To verify your identity, your signature must be notarized, or your request must include your written certification that you are the individual who you claim to be and that you understand that the knowing and willful request for, or acquisition of, a record pertaining to an individual under false pretenses is a criminal offense subject to a fine of up to $5,000.

CONTESTING RECORD PROCEDURES:

To request correction of a record about you in this system of records, submit a written amendment request to the System Manager. The request must contain the same information required for an access request and include verification of your identity in the same manner required for an access request. In addition, the request must reasonably identify the record and specify the information contested, the corrective action sought, and the reasons for requesting the correction; it should include supporting information to show how the record is inaccurate, incomplete, untimely, or irrelevant.

NOTIFICATION PROCEDURES:

To find out if this system of records contains a record about you, submit a written notification request to the System Manager. The request must identify this system of records, contain the same information required for an access request, and include verification of your identity in the same manner required for an access request.

EXEMPTIONS PROMULGATED FOR THE SYSTEM:

None.

HISTORY:

87 FR 3553 (Jan. 24, 2022).

[FR Doc. 2024-07668 Filed 4-10-24; 8:45 am]

BILLING CODE 4184-42-P